DEPARTMENT OF ENERGY

Federal Energy Regulatory Commission

Combined Notice of Filings #2

Take notice that the Commission received the following exempt wholesale generator filings:

Docket Number: EG17-74-000.

Applicants: Radford's Run Wind Farm, LLC.

Description: Notice of Self-Certification of Exempt Wholesale Generator Status of Radford's Run Wind Farm, LLC.

Filed Date: 3/10/17.

Accession Number: 20170310-5030.

Comments Due: 5 p.m. ET 3/31/17.

Docket Number: EG17-75-000.

Applicants: Bruenning's Breeze Wind Farm, LLC.

Description: Notice of Self-Certification of Exempt Wholesale Generator Status of Bruenning's Breeze Wind Farm, LLC.

Filed Date: 3/10/17.

Accession Number: 20170310-5035.

Comments Due: 5 p.m. ET 3/31/17.

Docket Number: EG17-76-000.

Applicants: Techren Solar, LLC.

Description: Notice of Self-Certification of Exempt Wholesale Generator Status of Techren Solar, LLC.

Filed Date: 3/10/17.

Accession Number: 20170310-5103.

Comments Due: 5 p.m. ET 3/31/17.

Take notice that the Commission received the following electric rate filings:

Docket Numbers: ER13-1485-007; ER10-3253-007; ER14-1777-006. ER10-3237-007; ER10-3240-007; ER10-3230-007. ER10-3231-006; ER15-2722-003; ER10-3232-007. ER10-3233-006; ER10-3239-007; ER14-2871-010. ER16-182-005; ER10-3243-010; ER17-47-002. ER10-3245-009; ER10-3249-009; ER10-3250-009. ER10-3251-010; ER14-2382-010; ER15-621-009. ER11-2639-010; ER15-622-009; ER15-463-009. ER16-72-005; ER15-110-009; ER17-48-002. ER13-1586-011; ER10-1992-017; ER16-902-001.

Applicants: Wheelabrator Baltimore, L.P., Wheelabrator Bridgeport, L.P., Wheelabrator Falls Inc., Wheelabrator Frackville Energy Company Inc., Wheelabrator North Andover Inc., Wheelabrator Portsmouth Inc., Wheelabrator Ridge Energy Inc., Wheelabrator Saugus Inc.,Wheelabrator Shasta Energy Company Inc., Wheelabrator South Broward Inc., Wheelabrator Westchester, L.P., Cameron Ridge, LLC, Cameron Ridge II, LLC, Chandler Wind Partners, LLC, DifWind Farms LTD VI, Foote Creek II, LLC, Foote Creek III, LLC, Foote Creek IV, LLC, Oak Creek Wind Power, LLC, ON Wind Energy LLC, Pacific Crest Power, LLC, Ridge Crest Wind Partners, LLC, Ridgetop Energy, LLC, San Gorgonio Westwinds II, LLC, San Gorgonio Westwinds II—Windustries, LLC, Terra-Gen Energy Services, LLC, Terra-Gen Mojave Windfarms, LLC, TGP Energy Management, LLC, Victory Garden Phase IV, LLC, Voyager Wind I, LLC.

Description: Notice of Change in Status of the ECP MBR Sellers.

Filed Date: 3/9/17.

Accession Number: 20170309-5251.

Comments Due: 5 p.m. ET 3/30/17.

Docket Number: ER17-1140-000.

Applicants: Southwest Power Pool, Inc.

Description: § 205(d) Rate Filing: 3128 NorthWestern Energy NITSA and NOA to be effective 10/1/2015.

Filed Date: 3/10/17.

Accession Number: 20170310-5032.

Comments Due: 5 p.m. ET 3/31/17.

Docket Number: ER17-1141-000.

Applicants: Midcontinent Independent System Operator, Inc., MidAmerican Energy Company.

Description: § 205(d) Rate Filing: 2017-03-09 SA 2996 MidAmerican-North English E&P (J475 J555) to be effective 3/15/2017.

Filed Date: 3/10/17.

Accession Number: 20170310-5033.

Comments Due: 5 p.m. ET 3/31/17.

Docket Number: ER17-1142-000.

Applicants: Midcontinent Independent System Operator, ALLETE, Inc.

Description: § 205(d) Rate Filing: 2017-03-10 SA 2700 Minnesota Power-Manitoba-Minnesota Power GNTL Assignment to be effective 3/11/2017.

Filed Date: 3/10/17.

Accession Number: 20170310-5038.

Comments Due: 5 p.m. ET 3/31/17.

Docket Number: ER17-1143-000.

Applicants: CMS Energy Resource Management Company.

Description: Compliance filing: Compliance with Letter Order to be effective 10/7/2016.

Filed Date: 3/10/17.

Accession Number: 20170310-5044.

Comments Due: 5 p.m. ET 3/31/17.

Docket Number: ER17-1144-000.

Applicants: ALLETE, Inc.

Description: Initial rate filing: Cost Sharing Agreement Filing to be effective 12/31/9998.

Filed Date: 3/10/17.

Accession Number: 20170310-5052.

Comments Due: 5 p.m. ET 3/31/17.

Docket Numbers: ER17-1145-000.

Applicants: ALLETE, Inc.

Description: Initial rate filing: Interim Transmission Owners Governance Agreement to be effective 12/31/9998.

Filed Date: 3/10/17.

Accession Number: 20170310-5054.

Comments Due: 5 p.m. ET 3/31/17.

Docket Number: ER17-1146-000.

Applicants: ALLETE, Inc.

Description: Initial rate filing: Project Development Agreement to be effective 12/31/9998.

Filed Date: 3/10/17.

Accession Number: 20170310-5055.

Comments Due: 5 p.m. ET 3/31/17.

Docket Number: ER17-1147-000.

Applicants: ALLETE, Inc.

Description: Initial rate filing: Construction Management Agreement to be effective 3/11/2017.

Filed Date: 3/10/17.

Accession Number: 20170310-5058.

Comments Due: 5 p.m. ET 3/31/17.

Docket Number: ER17-1148-000.

Applicants: ALLETE, Inc.

Description: Initial rate filing: Transmission Capacity Exchange Agreement to be effective 5/10/2017.

Filed Date: 3/10/17.

Accession Number: 20170310-5060.

Comments Due: 5 p.m. ET 3/31/17.

Docket Number: ER17-1149-000.

Applicants: ALLETE, Inc.

Description: Initial rate filing: Operation and Maintenance Agreement to be effective 5/10/2017.

Filed Date: 3/10/17.

Accession Number: 20170310-5061.

Comments Due: 5 p.m. ET 3/31/17.

Docket Number: ER17-1150-000.

Applicants: ALLETE, Inc.

Description: Initial rate filing: System Improvements Agreement to be effective 5/10/2017.

Filed Date: 3/10/17.

Accession Number: 20170310-5063.

Comments Due: 5 p.m. ET 3/31/17.

Docket Number: ER17-1151-000.

Applicants: ADG Group Inc.

Description: Baseline eTariff Filing: ADG Group Inc. Application for Market-Based Rate Authority to be effective 5/10/2017.

Filed Date: 3/10/17.

Accession Number: 20170310-5072.

Comments Due: 5 p.m. ET 3/31/17.

Docket Number: ER17-1152-000.

Applicants: PJM Interconnection, L.L.C.

Description: § 205(d) Rate Filing: Amendment to Various Service Agreements re: MAIT Integration into PJM to be effective 2/27/2007.

Filed Date: 3/10/17.

Accession Number: 20170310-5090.

Comments Due: 5 p.m. ET 3/31/17.

Docket Number: ER17-1153-000.

Applicants: Southern California Edison Company.

Description: § 205(d) Rate Filing: GIA and DSA Ellwood Storage Project, SA Nos. 941 & 942 to be effective 3/13/2017.

Filed Date: 3/10/17.

Accession Number: 20170310-5092.

Comments Due: 5 p.m. ET 3/31/17.

Docket Number: ER17-1155-000.

Applicants: ITC Midwest LLC.

Description: § 205(d) Rate Filing: Filing of Interconnection Facilities Agreement with IL&P to be effective 5/9/2017.

Filed Date: 3/10/17.

Accession Number: 20170310-5107.

Comments Due: 5 p.m. ET 3/31/17.

Docket Number: ER17-1156-000.

Applicants: Southern California Edison Company.

Description: Tariff Cancellation: Notices of Cancellation under SCE's WDAT to be effective 5/10/2017.

Filed Date: 3/10/17.

Accession Number: 20170310-5143.

Comments Due: 5 p.m. ET 3/31/17.

Docket Number: ER17-1157-000.

Applicants: Southern California Edison Company.

Description: Tariff Cancellation: Notices of Cancellation under SCE's TO Tariff to be effective 5/10/2017.

Filed Date: 3/10/17.

Accession Number: 20170310-5160.

Comments Due: 5 p.m. ET 3/31/17.

Docket Number: ER17-1158-000.

Applicants: Deseret Generation & Transmission Co-operative Inc.

Description: § 205(d) Rate Filing: 2017 Member Renewal RS A Tariff Filing to be effective 1/1/2017.

Filed Date: 3/10/17.

Accession Number: 20170310-5161.

Comments Due: 5 p.m. ET 3/31/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 10, 2017.
Nathaniel J. Davis, Sr.,
Deputy Secretary.

[FR Doc. 2017-05435 Filed 3-17-17; 8:45 am]

BILLING CODE 6717-01-P